COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List services to be furnished by nonprofit agencies employing persons who are blind or have other severe disabilities.

DATES: Effective Date: July 27, 2008.

ADDRESSES: Committee for Purchase From People Who Are Blind or Severely Disabled, Jefferson Plaza 2, Suite 10800, 1421 Jefferson Davis Highway, Arlington, Virginia 22202-3259

FOR FURTHER INFORMATION CONTACT: Kimberly M. Zeich, Telephone: (703) 603-7740, Fax: (703) 603-0655, or e-mail CMTEFedReg@jwod.gov.

SUPPLEMENTARY INFORMATION: On April 25, May 2 and May 9, 2008 the Committee for Purchase From People Who Are Blind or Severely Disabled published notice (73 FR 22324; 24219; 26363) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial & Grounds Maintenance, U.S. Federal Building and Courthouse—St. Croix, 3013 Estate Golden Rock, Christiansted, U.S. Virgin Islands.

NPA: The Corporate Source, Inc., New York, NY.

Contracting Activity: General Services Administration, Caribbean Property Management Center, Hato Rey, PR.

Service Type/Location: Mailroom Operations, Internal Revenue Service, 10715 David Taylor Drive, Charlotte, NC.

NPA: Employment Source, Inc., Fayetteville, NC.

NPA: ServiceSource, Inc., Alexandria, VA (prime contractor).

Contracting Activity: U.S. Department of the Treasury, Internal Revenue Service Headquarters, Oxon Hill, MD.

Service Type/Location: Laundry Refurbishment Services, Billings Fire Cache, 551 Northview Drive, Billings, MT.

NPA: Community Option Resource Enterprises, Inc., Billings, MT.

Contracting Activity: U.S. Department of the Interior, Bureau of Land Management—Montana State Office, Billings, MT.

This action does not affect current contracts awarded prior to the effective date of this addition or options that may be exercised under those contracts.

Patrick Rowe,
Deputy Executive Director.

[FR Doc. E8-14628 Filed 6-26-08; 8:45 am]

BILLING CODE 6353-01-P